DEPARTMENT OF AGRICULTURE

Submission for OMB Review; Comment Request; Correction

AGENCY: Rural Housing Service, Department of Agriculture.

ACTION: Notice; correction.

SUMMARY: The Rural Housing Service, Department of Agriculture, published a document in the Federal Register of July 16, 2021, concerning request for comments on specifications for the Direct Single Family Housing Loan and Grant Program. The document contained an incorrect number of respondents and total burden hours.

SUPPLEMENTARY INFORMATION:

Correction

In the Federal Register of July 16, 2021, in FR Doc 2021-15117, on page 37732, in the second column, correct the Number of Respondents: to read 248,919 and correct the Total Burden Hours: to read 305,646.

Levi S. Harrell,
Departmental Information Collection Clearance Officer.

[FR Doc. 2021-15900 Filed 7-26-21; 8:45 am]

BILLING CODE 3410-XV-P